DEPARTMENT OF HEALTH AND HUMAN SERVICES

Opportunity for Cosponsorship of Educational Program

AGENCY: Department of Health and Human Services, Office of the Secretary.

ACTION: Notice.

SUMMARY: The Office of the Assistant Secretary for Preparedness and Response (ASPR), Office of Preparedness and Emergency Operations (OPEO) announces the opportunity to cosponsor a national tactical medicine education program to train medical personnel serving on military, Federal, state and local law enforcement special response teams. Potential cosponsors must have a demonstrated interest in the subject matter and be willing to contribute substantively to the cosponsored activity.

DATES: To receive consideration, an expression of interest to participate as a cosponsor must be received by the close of business on March 6, 2009. Requests will meet the deadline date if they are either (1) received on or before the deadline date; or (2) postmarked on or before the deadline date.

ADDRESSES: Expressions of interest in a cosponsorship should be sent Gregory Smith, Educational Program Coordinator, 330 Independence Avenue SW., Room G-644, Washington, DC 20201; Ph: (202) 205-8166. Expressions of interest may be faxed; a fax number will be provided to callers on request to ensure receipt. Expressions of interest may also be submitted by electronic mail to gregory.smith@hhs.gov.

FOR FURTHER INFORMATION CONTACT: Gregory Smith, Educational Program Coordinator, 330 Independence Avenue, SW., Room G-644, Washington, DC 20201; Ph: (202) 205-8166; e-mail: gregory.smith@hhs.gov.

SUPPLEMENTARY INFORMATION:

Description

The Office of the ASPR was created by section 2811 of the Public Health Service Act. Among other functions within ASPR, the Office of Preparedness and Emergency Operations (OPEO) is responsible for participating in training and exercises to ensure national preparedness to respond to domestic and international public health and medical threats and emergencies, such as acts of terrorism. ASPR/OPEO announces the opportunity to cosponsor a national tactical medicine education program to train medical personnel serving on military, Federal, state and local law enforcement special response teams. This national program will initially be offered on a quarterly basis in the greater Washington, DC area. Each course will consist of a one-week block of instruction. In an age of terrorism and global threats, the purpose of the program is to provide high-quality, affordable didactic and practical training to medical personnel who provide life-saving medical support to law enforcement special response teams during critical incident response.

ASPR/OPEO seeks a cosponsor to provide expertise in the development and maintenance of the program curriculum, its infrastructure, and the strategic communication necessary to promote and deliver the educational program effectively on an ongoing basis. The cosponsorship will involve course curriculum development, facilitation through internet website design and maintenance, strategic messaging, financial management of course fees, procurement of needed course supplies and equipment, oversight for pre-course logistics (e.g., coordination of instructor travel and lodging) and participation in the preparation of necessary educational material. The cosponsor would develop the project in conjunction with ASPR/OPEO Staff. The cosponsor will be able to charge registration fees to recover its share of the costs of the event. Registration fees may be set at an amount no higher than necessary to recover such costs.

Requirements of Cosponsorship

The ASPR/OPEO is seeking a cosponsor to partner in ways that accord with its particular circumstances. For example, an entity might offer to cosponsor the following proposed program activities in order to facilitate course delivery on a quarterly basis in conjunction with the ASPR/OPEO Staff:

(1) Participate in the development of the program curriculum;

(2) Participate in the design and maintenance of a website that promotes the course, provides upcoming course information, and provides a platform for course registration;

(3) Participate in financial management for the course by maintaining collected registration fees in an identified fund, providing ongoing transparency in financial accountability, and participating in the dispersal of such funding for procurement of selected course supplies, mailings and equipment;

(4) Participate in course promotion activities, press releases and other strategic messaging that recognizes the cosponsorship;

(5) Coordinate the course registration and student enrollment process;

(6) Coordinate pre-course logistics (e.g., travel and lodging for course instructors into the DC area);

(7) Assist with the preparation and distribution of course educational materials;

(8) Assist with the development and maintenance of course-related databases (e.g., lists of class participants, educational survey response data).

Availability of Funds

Limited Federal funding is available for this cosponsorship. The cosponsor may charge student registration fees to recoup its expenses for participation in the program. Registration fees may be set at an amount no higher than necessary to recover such costs. Any additional funds incidentally generated above the cosponsor's costs must be directed back into future sessions of the course for improved course delivery, supplies, equipment and other course-related necessities. A cosponsor agrees not to use the program as a vehicle to sell or promote products or services. Any incidental promotional materials cannot imply that HHS/ASPR/OPEO endorses any products or services.

Eligibility for Cosponsorship

To be eligible, a requester must: (1) Have a demonstrated interest and understanding of the basic concepts involved in health care delivery under austere, tactical, military or disaster conditions; (2) participate substantively in the cosponsored activity (not just provide funding or logistical support); (3) have an organizational or corporate mission that is not inconsistent with the public health and safety mission of the Department; and (4) agree to sign a cosponsorship agreement with ASPR/OPEO which will set forth the details of the cosponsored activity.

Cosponsorship Proposal

Each cosponsorship proposal should contain a description of: (1) The entity or organization; (2) its background in training and educational activities; (3) its proposed involvement in the cosponsored activity to include evidence of a substantive interest.

Evaluation Criteria

After engaging in exploratory discussions with potential cosponsors that respond to this notice, the cosponsor will be selected by representatives of ASPR/OPEO using the following criteria:

(1) Requester's qualifications and capability to fulfill cosponsorship responsibilities;

(2) Requester's creativity for enhancing the medium for program messages;

(3) Requester's track record for facilitating the delivery of educational programs or other similar projects;

(4) Requester's ability to maintain sustained involvement in this ongoing program.

Dated: February 13, 2009.
W. Craig Vanderwagen,
Assistant Secretary for Preparedness and Response, U.S. Department of Health and Human Services.

[FR Doc. E9-3479 Filed 2-18-09; 8:45 am]

BILLING CODE 4150-37-P